OVERSEAS PRIVATE INVESTMENT CORPORATION

Agency Information Collection Activities: Proposed Collection; Comment Request

AGENCY: Overseas Private Investment Corporation (OPIC).

ACTION: Request for Comments

SUMMARY: In compliance with the Paperwork Reduction Act (44 U.S.C. 3501 et seq.), this document announces that OPIC is planning to submit the following proposed information Collection Request (ICR) to the Office of Management and Budget (OMB): OPIC 2006 Client Satisfaction Survey. Before submitting the ICR to OMB for review and approval, OPIC is soliciting public comment on the client survey. Comments are being solicited on the need for the information, its practical utility, the accuracy of the Agency's burden estimate, and on ways to minimize the reporting burden. The proposed ICR is summarized below.

DATES: All comments must be received by OPIC within 60 calendar days from the publication date of this Notice.

ADDRESSES: Information regarding this information collection request and/or a copy of the survey questions can be obtained from the Agency Submitting Officer below. Comments on the survey should be submitted to the Agency Submitting Officer.

FOR FURTHER INFORMATION CONTACT:

OPIC Agency Submitting Officer

Essie Bryant, Records Manager, Overseas Private Investment Corporation, 1100 New York Avenue, NW., Washington, DC 20527, telephone (202) 336-8563.

SUPPLEMENTARY INFORMATION:

Type of Request: New information collection.

Title: 2006 OPIC Client Satisfaction Survey.

OMB Approval Number: None.

Frequency of Response: Once per client.

Type of Respondents: Individual business officer representatives of U.S. companies sponsoring projects overseas.

Respondent's Obligation: Voluntary.

Affected Public: U.S. companies or citizens sponsoring projects overseas.

Estimated Number of Respondents: 100.

Estimated Time Per Response: 30 minutes.

Estimated Total Annual Burden: 50 hours.

Estimated Federal Cost: $10,075.00.

Authority for Information Collection: Sections 231 and 234 of the Foreign Assistance Act of 1961, as amended.

Abstract (Needs and Uses of Information Collected): OPIC is conducting a telephone survey of its clients to determine their satisfaction with its products and services. OPIC will use the survey results to develop strategies to improve customer service. Comments are invited on: (1) Whether the proposed collection of information is necessary for the proper performance of the functions of OPIC, including whether the information collected will have practical utility; (2) the accuracy of OPIC's estimate of the burden of the proposed collection of information; (3) ways to enhance the quality, utility, and clarity of the information to be collected; and (4) ways to minimize the burden of the collection of information on respondents, including automated collection techniques or the use of other forms of information technology.

Signature Date: March 7, 2006.
John P. Crowley III,
Senior Counsel for Administrative Law, Department of Legal Affairs.

[FR Doc. 06-2339 Filed 3-9-06; 8:45am]

BILLING CODE 3210-01-M